GENERAL SERVICES ADMINISTRATION

Interagency Committee for Medical Records (ICMR); Revision of SF 504, Medical Record—History—Part 1

AGENCY: Office of Communications, GSA.

ACTION: Notice.

SUMMARY: The General Services Administration/ICMR revised the SF 504, Medical Record—History—Part 1 to add sponsor information, update the patient identification information and make the form authorized for local reproduction. You can obtain the updated form in two ways: On the internet. Address: http://www.gsa.gov/forms/ or; From GSA, Forms-CAP, Attn.: Barbara Williams, (202) 501-0581.

FOR FURTHER INFORMATION CONTACT: Ms. Barbara Williams, General Services Administration, (202) 501-0581.

DATES: Effective October 11, 2002.

Dated: September 26, 2002.
Barbara M. Williams,
Deputy Standard and Optional Forms Management Officer, General Services Administration.

[FR Doc. 02-25918 Filed 10-10-02; 8:45 am]

BILLING CODE 6820-34-M